DEPARTMENT OF DEFENSE

Department of the Navy

Notice of Availability of Government-Owned Inventions; Available for Licensing

AGENCY: Department of the Navy, DOD.

ACTION: Notice.

SUMMARY: The Department of the Navy hereby gives notice of the availability of exclusive or partially exclusive licenses to practice worldwide under the following pending patents. Any license granted shall comply with 35 U.S.C. 209 and 37 CFR Part 404. Applications will be evaluated utilizing the following criteria: (1) Ability to manufacture and market the technology; (2) manufacturing and marketing ability; (3) time required to bring technology to market and production rate; (4) royalties; (5) technical capabilities; and (6) small business status.

Patent application Serial Number 60/642,771 entitled “Fimbrial Adhesin as Vaccine Against Escherichia Coli” filed on January 11, 2005. The present invention relates to the field of inducing an immune response against diarrheagenic bacteria including enterotoxigenic Escherichia coli using bacterial fimbriae components.

Patent application Serial Number 60/668,591 entitled “Recombinant Antigens for the Detection of Coxiella Burnetii” filed on April 6, 2005. The present invention relates to Coxiella burnetii peptide antigens and recombinant DNA encoding the peptides.

Patent application Serial Number 10/934,686, entitled “Hospital and Clinic Emergency Preparedness Optimization System” filed on September 3, 2004. The present invention relates to hospital and ambulatory clinic emergency management systems.

Patent application Serial Number 60/683,787 entitled “Anti-Adhesin Based Passive Immunoprophylactic” filed on May 24, 2005. The present invention relates to a pharmaceutical useful in conferring passive protection against diarrhea caused by enterotoxigenic Esherichia coli.

Patent application Serial Number 60/709,804 entitled “A Method for the Evaluation of Dengue Virus Therapeutic Agents” filed on August 22, 2005. The present invention relates to a method for evaluating the immunogenicity and efficacy of vaccine or drug formulations against dengue virus using a pig or porcine cells as models of infection and pathogenicity.

Patent application Serial Number 60/715,578 entitled “Potts Reagent Alcohol-Solvent Extraction System” filed on September 12, 2005. This invention relates to a method for decontaminating alcohol so that it may be recycled in histology and other laboratory settings.

Patent application serial Number, 60/722,086, entitled “Immunogenic Capsule Composition for Use as a Vaccine Against Campylobacter Jejuni” filed September 21, 2005. This invention relates to a pharmaceutical useful in conferring protection against diarrhea caused by Campylobacter jejuni and a method of administering said pharmaceutical.

Patent application Serial Number 60/627,811 entitled “Diagnostic Assay for Rickettsial prowazekii Disease By Detection of Responsive Gene Expression” filed on November 10, 2004. The present invention relates to a method of diagnosing epidemic typhus caused by the bacteria Rickettsia prowazekii by analysis of modulation of host gene expression. The method contemplates the use of micro-array technology for the detection and analysis of gene up or down regulation in response to bacterial infection.

DATES: Applications for an exclusive or partially exclusive license may be submitted at any time from the date of this notice.

ADDRESSES: Submit application to the Office of Technology Transfer, Naval Medical Research Center, 503 Robert Grant Ave., Silver Spring, MD 20910-7500.

FOR FURTHER INFORMATION CONTACT: Dr. Charles Schlagel, Director, Office of Technology Transfer, Naval Medical Research Center, 503 Robert Grant Ave., Silver Spring, MD 20910-7500, telephone 301-319-7428 or e-mail at: schlagelc@nmrc.navy.mil.

Dated: October 31, 2005.
I.C. Le Moyne Jr.,
Lieutenant Commander, Judge Advocate General's Corps, U.S. Navy, Alternate Federal Register Liaison Officer.

[FR Doc. 05-22516 Filed 11-10-05; 8:45 am]

BILLING CODE 3810-FF-P